ENVIRONMENTAL PROTECTION AGENCY

[OPP-2003-0305; FRL-7327-7]

Diazinon; Notice of Receipt of Requests to Voluntarily Cancel Certain Pesticide Products

AGENCY: Environmental Protection Agency (EPA).

ACTION: Notice.

SUMMARY: In accordance with section 6(f)(1) of the Federal Insecticide, Fungicide, and Rodenticide Act (FIFRA), as amended, EPA is issuing a notice of receipt of requests by registrants to voluntarily cancel the registrations for all of their outdoor non-agricultural end-use products containing diazinon [O,O-diethyl O-(2-isopropyl-6-methyl-4-pyrimidinyl) phosphorothioate]. EPA intends to grant these requests by issuing a cancellation order at the close of the comment period for this announcement, unless the Agency receives substantive comments within the comment period that would merit its further review of these requests. It is EPA's intent that the cancellation of the outdoor non-agricultural end-use products will be effective on December 31, 2004. The Agency requests public comment on these voluntary cancellation requests, and is providing a 180-day comment period.

DATES: Comments on the requested registration cancellations must be submitted to the address provided below and identified by docket identification (ID) number OPP-2003-0305. Comments must be received on or before June 7, 2004.

FOR FURTHER INFORMATION CONTACT: Stephanie Plummer, Special Review and Reregistration Division (7508C), Office of Pesticide Programs, Environmental Protection Agency, 1200 Pennsylvania Ave., NW., Washington, DC 20460-0001; telephone number: (703) 305-0076; e-mail address: plummer.stephanie@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Copies of this Document and Other Related Information?

1. Docket. EPA has established an official public docket for this action under docket ID number OPP-2003-0305. The official public docket consists of the documents specifically referenced in this action, any public comments received, and other information related to this action. Although a part of the official docket, the public docket does not include Confidential Business Information (CBI) or other information whose disclosure is restricted by statute. EPA also established two dockets containing documents in support of the diazinon IRED. They are dockets OPP-34225 and OPP-2002-0251. The official public docket is the collection of materials that is available for public viewing at the Public Information and Records Integrity Branch (PIRIB), Rm. 119, Crystal Mall #2, 1921 Jefferson Davis Hwy., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. What Action is the Agency Taking?

This notice announces receipt by the Agency of applications from registrants to cancel 75 pesticide products registered under section 3 of FIFRA. These registrations are listed in ascending sequence by registration number in Table 1 of this unit.

A. Background Information

Diazinon is an organophosphorous insecticide and is one of the most widely used insecticides in the U.S. It is used for outdoor non-agricultural, as well as agricultural, pest control.

Under a December 5, 2000, memorandum of agreement (MOA), the technical registrants of diazinon agreed to certain provisions regarding outdoor non-agricultural end-use products. All companies holding registrations for diazinon outdoor non-agricultural end-use products submitted letters to the Agency agreeing to the following changes in the conditions of their registrations according to the MOA:

1. Stop manufacturing all diazinon outdoor non-agricultural end-use products no later than June 30, 2003.

2. Stop shipment of all diazinon outdoor non-agricultural end-use products no later than August 31, 2003.

3. Voluntarily cancel all diazinon outdoor non-agricultural end-use product registrations by December 31, 2004.

4.Adhere to certain existing stocks provisions, which are explained in Unit IV.

The Reregistration Eligibility Decision (RED) document summarizes the findings of EPA's reregistration process for individual chemical cases, and reflects the Agency's decision on risk assessment and risk management for uses of the individual pesticides. EPA has issued an Interim Reregistration Eligibility Decision (IRED) document assessing the risks from exposure to diazinon.

B. Requests for Voluntary Cancellation

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation. In addition, section 6(f)(1)(C) of FIFRA requires that EPA provide a 180-day comment period on a request for voluntary termination of any minor agricultural use before granting the request, unless: (1) The registrants request a waiver of the comment period, or (2) the Administrator determines that the continued use of the pesticide would pose an unreasonable adverse effect on the environment.EPA will apply a 180-day comment period to this notice.

Table 1.— Diazinon Registrations with Pending Requests for Cancellation
Registration number | Product name
16-118 | Dragon Granular Lawn Insect Control
16-119 | Dragon 5% Diazinon Granules
16-157 | Dragon 25% Diazinon Spray
16-166 | Dragon Diazinon Water-Based Concentrate
192-161 | Dexol Diazinon 5% Granules
228-162 | Riverdale Lawn Insect Killer Plus Fertilizer
228-177 | Riverdale 5% Diazinon Insect Killer Granules
239-2364 | Ortho Diazinon Insect Spray
239-2375 | Ortho Diazinon Granules
239-2479 | Ortho Diazinon Soil and Turf Insect Control
239-2503 | Ortho Diazinon Granular Fire Ant Killer
239-2619 | Hi-Power Ant, Roach, and Spider Spray Formula II
239-2630 | Ortho Diazinon Insect Spray Ready-to-Use
239-2643 | Ortho Diazinon Insect Spray 2
239-2671 | Ortho Diazinon Dust
538-92 | Lawn Insect Control Plus Fertilizer
538-187 | Scotts Lawn Insect Control
538-204 | Western Lawn Insect Control Plus Fertilizer
538-254 | Fertilizer Plus Diazinon
538-258 | Fertilizer and Diazinon
572-292 | 5% Diazinon Granular Lawn Insecticide
572-305 | Rockland Diazinon Spray
655-556 | Prentox Diazinon 5G
829-249 | Diazinon Insecticide 25% Spray Concentrate
829-264 | SA-50 Brand 5% Diazinon Granules
869-139 | Green Light Diazinon 5 Granules
869-231 | Green Light Diazinon
961-358 | Lebanon Lawn and Garden Insecticide with Diazinon 5G
961-393(old reg. no. 8660-11) | Sta-Green Lawn Insect Control and Fertilizer
1386-648 | 5% Diazinon Insect Killer Granules
3546-27 | Shoofly Hornet Jet-bomb
7401-216 | Ferti-lome Diazinon Insect Spray
7401-222 | Ferti-lome Special Diazinon Insect Killer Granules
7401-441 | Ferti-lome Diazinon Water Base Concentrate
8378-12 | Lawn Insect Control Plus Fertilizer
8378-32 | Shaw's 5% Diazinon Insect Granules
8780-51 | Turf Line Diazinon 5G Lawn Insect Control
8780-56 | Turf Line Arthroban Triple Action #4
8845-92 | Spectracide Lawn and Garden Insect Control
8845-95 | Spectracide 6000 Lawn and Garden Insect Control
8845-101 | Spectracide Fire Ant Killer
9198-45 | The Andersons Turf Food with 3.33% Diazinon
9198-62 | The Andersons Lawn and Garden Insecticide 5% Diazinon
9688-89 | Chemsico Diazinon 2G
10404-14 | Lesco Diazinon 3.33% + Fertilizer
10404-23 | Lesco Diazinon 5G
19713-263 | Drexel Diazinon 5G
19713-264 | Drexel Diazinon 2G
19713-317 | Bug Spray
28293-199 | Unicorn Diazinon 5G Granules
28293-230 | Unicorn 25 EC Diazinon
32802-5 | All Season Diazinon 5G Insecticide
33955-556 | Acme Diazinon 25% Emulsifiable Concentrate
33955-557 | Acme Diazinon 5G Lawn and Garden Insect Control
34704-57 | Clean Crop Diazinon 5 Lawn and Garden
34911-13 | Hi-Yield 5% Diazinon Insect Killer Granules
34911-23 | Hi-Yield Imported Fire Ant Control Granules
40849-30 | Enforcer Ant Kill Granules II
42057-90 | Diazinon Liquid (Diazinon 25% Emulsifiable)
42057-107 | Morgro 5% Diazinon Granular Lawn and Garden Insect Control
51036-69 | Diazinon 2G Lawn and Perimeter Granules
51036-97 | Diazinon 5G Homeowner
53883-45 | Martins Diazinon 25 E Lawn and Garden Insect Control
53883-46 | Martin's Diazinon Granular Lawn Insect Control
53883-51 | Martins 5% Diazinon Granules
53883-54 | Martin's Fire Ant Killer
53883-80 (old reg. no. 37915-6) | Professional Pest Control Formula DC-500
56819-13 (old reg. no. 8780-54) | Turf Diazinon Lawn Insect Control Plus Fertilizer #2
56819-14 (old reg. no. 8780-55) | Turf Diazinon Lawn Insect Control Plus Fertilizer
59144-2 | 5% Diazinon Granules
59144-28 | Diazinon Lawn and Garden Insecticide
61282-25 | Diazinon Lawn and Garden WBC
62366-2 | Bug Stuff
67572-1 | CP Diazinon Lawn and Garden WB Ready-to-Use
75082-2 (old reg. no. 34822-6) | Di-All Paint Insecticide

Table 2 of this unit includes the names and addresses of record for all registrants of the products in Table 1 of this unit, in ascending sequence by EPA company number:

Table 2.—Registrants Requesting Voluntary Cancellation
EPA Company number | Company name and address
16 | Dragon Chemical Corporation, 7033 Walrond Drive, NW, P.O. Box 7311, Roanoke, VA 24019
192 | Value Gardens Supply, LLC, P.O. Box 585, St. Joseph, MO 64502
228 | Nufarm Americas Inc., 1333 Burr Ridge Parkway, Suite 125A, Burr Ridge, IL 60527
239 | The Ortho Business Group, P.O. Box 190, Marysville, OH 43040
538 | The Scotts Company, 14111 Scottslawn Road, Marysville, OH 43041
572 | Rockland Corporation, 686 Passaic Avenue, P.O. Box 809, West Caldwell, NJ 07007
655 | Prentiss Inc., CB 2000, Floral Park, New York, NY 11001
829 | Southern Agricultural Insecticides, Inc., P.O. Box 218, Palmetto, FL 34220
869 | Green Light Company, P.O. Box 17985, San Antonio, TX 78217
961 | Lebanon Seaboard Corporation, 1600 East Cumberland Street, Lebanon, PA 17042
1386 | Universal Cooperatives Inc., 1300 Corporate Center Curve, Eagan, MN 55121
3546 | Lynwood Labs Inc., 945 Great Plain Avenue, Needham, MA 02192
7401 | Voluntary Purchasing Group Inc., 1806 Auburn Drive, Carrollton, TX 75007
8378 | Knox Fertilizer Company Inc., West Culver Road, P.O. Box 248, Knox, IN 46534
8780 | Progressive Lawn Research, Inc., 1225 Lehigh Station Road, P.O. Box 400, Henrietta, NY 14467
8845 | Spectrum Group, P.O. Box 142642, St. Louis, MO 63114
9198 | The Andersons Lawn Fertilizer Division, Inc., P.O. Box 119, Maumee, OH 43537
9688 | Chemsico, P.O. Box 142642, St. Louis, MO 63114
10404 | Lesco Inc., 15885 Sprague Road, Strongsville, OH 44136
19713 | Drexel Chemical Company, 1700 Channel Avenue, P.O. Box 13327, Memphis, TN 38113
28293 | Unicorn Laboratories, 12385 Automobile Boulevard, Clearwater, FL 33762
32802 | Howard Johnson's Enterprises Inc., 700 West Virginia Street, Suite 222, Milwaukee, WI 53204
33955 | PBI/Gordon Corporation, P.O. Box 014090, Kansas City, MO 64101
34704 | Platte Chemical Company, Inc., P.O. Box 667, Greeley, CO 80632
34911 | Hi-Yield Chemical Company, 1806 Auburn Drive, Carrollton, TX 75007
40849 | Enforcer Products, 1310 Seaboard Industrial Boulevard, NW Atlanta, GA 30318
42057 | Morgro Chemical Company, 145 West Central Avenue, Salt Lake City, UT 84107
51036 | Micro-Flo Company LLC, P.O. Box 772099, Memphis, TN 38117
53883 | Control Solutions, Inc., 5903 Genoa-Red Bluff, Pasadena, TX 77507
56819 | Progressive Lawn Research Inc. C/O High Point Mills Road, P.O. Box 400, Henrietta, NY 14467
59144 | Gro Tec Inc., 30856 Rocky Road, Greeley, CO 80631
61282 | Hacco, Inc., P.O. Box 7190, Madison, WI 53707
62366 | The Valspar Corporation, 30856 Rocky Road, Greeley, CO 80631
67572 | Contract Packaging Inc., 10115 Highway 142, North Covington, GA 30014
75082 | Supreme Chemicals of Georgia, Inc., 1535 Oak Industrial Lane, Suite B, Cummings, GA 30041

III. What is the Agency's Authority for Taking this Action?

Section 6(f)(1) of FIFRA provides that a registrant of a pesticide product may at any time request that any of its pesticide registrations be canceled. FIFRA further provides that, before acting on the request, EPA must publish a notice of receipt of any such request in the Federal Register. After complying with the requirements in 6(f)(1), the Administrator may approve such a request.

IV. Provisions for Disposition of Existing Stocks

The Agency intends to issue a cancellation order following consideration of all comments received during the comment period, unless the comments warrant further review of this request. Any cancellation order issued in response to this request will have an effective date of December 31, 2004.

Existing stocks are those stocks of registered pesticide products which are currently in the United States and which have been packaged, labeled, and released for shipment prior to the effective date of the cancellation action. As noted above, the companies listed in Table 2 in Unit II., have agreed to stop shipment of all diazinon outdoor non-agricultural end-use products no later than August 31, 2003. In accordance with the MOA, all companies holding registrations for outdoor non-agricultural end-use diazinon products agreed to the following existing stocks provisions:

1. Sale and distribution of these outdoor non-agricultural end-use products containing diazinon will not be permitted after December 31, 2004. Except for purposes of product recovery pursuant to the 2000 MOA, shipping such stocks for export consistent with the requirements of FIFRA section 17, or proper disposal in accordance with applicable law.

2. Use of existing stocks may continue until stocks are exhausted. Any such use must be in accordance with the label.

List of Subjects

Environmental protection, Pesticides and pests.

Dated: November 18, 2003.
Betty Shackleford,
Acting Director, Special Review and Reregistration Division, Office of Pesticide Programs.

[FR Doc. 03-30271 Filed 12-9-03; 8:45 am]

BILLING CODE 6560-50-S